DEPARTMENT OF HEALTH AND HUMAN SERVICES

Centers for Disease Control and Prevention

Notice of Annual Meeting

The National Center for Environmental Health (NCEH) of the Centers for Disease Control and Prevention (CDC) Vessel Sanitation Program (VSP) announces the following meeting:

Name: Vessel Sanitation Program: Current Program Status and Experience to Date with Program Operations.

Time and Date: 9 a.m. to 4 p.m., April 17, 2007.

Location: Auditorium, Port Everglades Administration Building, 1850 Eller Drive, Ft. Lauderdale, Florida 33316.

Status: Open to the public, limited by the space available. The meeting room accommodates approximately 100 people.

Meeting Objectives: CDC staff, cruise ship industry representatives, private sanitation consultants, and other interested parties will meet to discuss the current status of the Vessel Sanitation Program and experience to date.

Topics to be discussed include but are not limited to the following:

• 2006 Program Review,

• Updates to the Vessel Sanitation Program Operations Manual 2005,

• Updates to the Vessel Sanitation Program Construction Guidelines 2005, and

• Updates on cruise ship outbreaks and Norovirus.

The official record of this meeting will remain open for a period of 15 days following the meeting (through May 1, 2007) so that additional materials or comments may be submitted and made part of the record of the meeting.

Advanced registration is encouraged. Please provide the following information: Name, title, company name, mailing address, telephone number, facsimile number, and e-mail address to Lisa Beaumier at 770-488-7138, FAX 770-488-4127, or lbeaumier@cdc.gov.

If you need additional information, please contact Lisa Beaumier (see contact information above).

Dated: March 5, 2007.
James D. Seligman,
Chief Information Officer, Centers for Disease Control and Prevention.

[FR Doc. E7-4530 Filed 3-12-07; 8:45 am]

BILLING CODE 4163-18-P